DEPARTMENT OF TRANSPORTATION

Surface Transportation Board

[Docket No. FD 35759]

John D. Nielsen—Control Exemption—Nebkota Railway, Inc.

AGENCY: Surface Transportation Board, DOT.

ACTION: Notice of Exemption.

SUMMARY: The Board is granting an exemption under 49 U.S.C. 10502 from the prior approval requirements of 49 U.S.C. 11323-25 for John D. Nielsen (Nielsen), a noncarrier individual who controls Class III rail carrier Nebraska Northwestern Railroad, Inc. (NNW), to acquire control of Nebkota Railway, Inc. (NRI), another Class III rail carrier, which connects with NNW at Chadron, Neb.

DATES: This exemption will be effective on December 15, 2013. Petitions for stay must be filed by December 5, 2013. Petitions to reopen must be filed by December 10, 2013.

ADDRESSES: An original and 10 copies of all pleadings, referring to Docket No. FD 35759, must be filed with the Surface Transportation Board, 395 E Street SW., Washington, DC 20423-0001. In addition, one copy of each pleading must be served on Nielsen's representative: Michael J. Barron, Jr., Fletcher & Sippel LLC, Suite 920, 29 North Wacker Drive, Chicago, IL 60606-2832.

FOR FURTHER INFORMATION CONTACT: Jonathon Binet, (202) 245-0368. Federal Information Relay Service (FIRS) for the hearing impaired: 1-800-877-8339.

SUPPLEMENTARY INFORMATION: Additional information is contained in the Board's decision. Board decisions and notices are available on our Web site at WWW.STB.DOT.GOV.

Decided: November 20, 2013.
By the Board, Chairman Elliott, Vice Chairman Begeman, and Commissioner Mulvey.
Derrick A. Gardner,
Clearance Clerk.

[FR Doc. 2013-28222 Filed 11-22-13; 8:45 am]

BILLING CODE 4915-01-P